DEPARTMENT OF JUSTICE

Office of Justice Programs

Agency Information Collection Activities: Approval of a New Collection Comment Request

ACTION: Notice of information collection under review; extension of a currently approved collection. VOI/TIS 96/ NEPA Guidance.

The Department of Justice, Office of Justice Programs, Corrections Program Office, has submitted the following information collection request for review and clearance in accordance with the Paperwork Reduction Act of 1995. Office of Management and Budget approval is being sought for the information collection listed below. This proposed information collection was previously published in the Federal Register, Volume 65, page 41097 on July 3, 2000, allowing for a 60-day public comment period.

The purpose of this notice is to allow an additional 30 days for public comment until February 5, 2001. This process is conducted in accordance with 5 CFR 1320.10.

Written comments and/or suggestions regarding the item(s) contained in this notice, especially regarding the estimated public burden and associated response time, should be directed to the Office of Management and Budget, Office of Information and Regulatory Affairs, Attention: Department of Justice Desk Officer, Washington, DC 20530. Additionally, comments may be submitted to OMB via facsimile to (202) 395-7285. Comments may also be submitted to the Ms. Brenda E. Dyer, Deputy Clearance Office, United States Department of Justice, Information Management and Security Staff, Justice Management Division, Suite 1220, National Place Building, 1331 Pennsylvania Avenue, NW., Washington, DC 20530. Additional comments may be submitted to DOJ via facsimile to (202) 514-1590.

Written comments and/or suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technology collection techniques or other forms of information technology, e.g., permitting electronic submission of responses.

Overview of this information:

(1) Type of information collection: Extension of a currently approved collection.

(2) The title of the form/collection: Program Guidance on Environmental Protections Requirements and Violent Offender Incarceration/Truth-in-Sentencing Project Status Report.

(3) The agency form number, if any, and the applicable component of the Department sponsoring the collection: Department of Justice, Office of Justice Programs, Corrections Program Office.

(4) Affected public who will be asked or required to respond, as well as a brief abstract:

Primary: State and Local Government.

Other: None. The Violent Offender Incarceration/Truth-in-Sentencing Grant Program was authorized under Title II, Subtitle A of the Violent Crime Control and Law Enforcement Act of 1994, as amended, to assist states in their efforts to remove violent offenders from the community and to encourage states to implement truth-in-sentencing.

(5) An estimate of the total number of respondents and the amount of time estimated for an average respondent to respond/reply: The time burden of the 550 respondents to complete the surveys is 60 minutes per survey, the approximate burden of completing an Environmental Assessment or Environmental Impact Statement or a combination of the two can be up to 24 months (hours may vary).

(6) An estimate of the total public burden (in hours) associated with the collection: Average time burden for each respondent can be up to 24 months.

If additional information is required contact: Ms. Brenda E. Dyer, Deputy Clearance Officer, United States Department of Justice, Information Management and Security Staff, Justice Management Division, Suite 1220, National Place Building, 1331 Pennsylvania Avenue, NW., Washington, DC 20530.

Dated: December 20, 2000.
Brenda E. Dyer,
Department Deputy Clearance Officer, United States Department of Justice.

[FR Doc. 01-231 Filed 1-3-01; 8:45 am]

BILLING CODE 4410-18-M